DEPARTMENT OF ENERGY

Federal Energy Regulatory Commission

Combined Notice of Filings

Take notice that the Commission has received the following Natural Gas Pipeline Rate and Refund Report filings:

Docket Numbers: RP21-311-001.

Applicants: Northwest Pipeline LLC.

Description: Compliance filing Request to Make Customer Specific Entitlements Tariff Records Effective to be effective 3/15/2021.

Filed Date: 2/5/21.

Accession Number: 20210205-5071.

Comments Due: 5 p.m. ET 2/17/21.

Docket Numbers: RP21-462-000.

Applicants: Guardian Pipeline, L.L.C.

Description: § 4(d) Rate Filing: Pre-Granted Abandonment of Services—Rate Schedules OSS and LBS to be effective 3/7/2021.

Filed Date: 2/5/21.

Accession Number: 20210205-5052.

Comments Due: 5 p.m. ET 2/17/21.

Docket Numbers: RP21-463-000.

Applicants: Dauphin Island Gathering Partners.

Description: Storm Surcharge Adjustment Filing for 2021 of Dauphin Island Gathering Partners under RP21-463.

Filed Date: 2/5/21.

Accession Number: 20210205-5064.

Comments Due: 5 p.m. ET 2/17/21.

Docket Numbers: RP21-464-000.

Applicants: Guardian Pipeline, L.L.C.

Description: § 4(d) Rate Filing: Negotiated Rate PAL Agreements—Morgan Stanley to be effective 2/6/2021.

Filed Date: 2/5/21.

Accession Number: 20210205-5156.

Comments Due: 5 p.m. ET 2/17/21.

Docket Numbers: RP21-465-000.

Applicants: Viking Gas Transmission Company.

Description: § 4(d) Rate Filing: Negotiated Rate PAL Agreement—World Fuel Services, Inc. to be effective 2/6/2021.

Filed Date: 2/5/21.

Accession Number: 20210205-5169.

Comments Due: 5 p.m. ET 2/17/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 9, 2021.
Nathaniel J. Davis, Sr.,
Deputy Secretary.

[FR Doc. 2021-03038 Filed 2-12-21; 8:45 am]

BILLING CODE 6717-01-P